DEPARTMENT OF AGRICULTURE

Animal and Plant Health Inspection Service

[Docket No. APHIS-2008-0076]

Environmental Impact Statement; Regulation of the Importation, Interstate Movement, and Intrastate Movement of Plant Pests: Record of Decision

AGENCY: Animal and Plant Health Inspection Service, USDA.

ACTION: Notice.

SUMMARY: This notice advises the public of the Animal and Plant Health Inspection Service's record of decision for the final environmental impact statement titled “Regulation of the Importation, Interstate Movement, and Intrastate Movement of Plant Pests.”

DATES: An official of the Animal and Plant Health Inspection Service-Plant Protection and Quarantine signed the record of decision on July 17, 2019.

ADDRESSES: You may read the final environmental impact statement and record of decision in our reading room. The reading room is located in Room 1141 of the USDA South Building, 14th Street and Independence Avenue SW, Washington, DC. Normal reading room hours are 8 a.m. to 4:30 p.m., Monday through Friday, except holidays. To be sure someone is there to help you, please call (202) 799-7039 before coming. The record of decision, final environmental impact statement, and supporting information may also be viewed at http://www.regulations.gov/#!docketDetail;D=APHIS-2008-0076. To obtain copies of the documents, contact the person listed under FOR FURTHER INFORMATION CONTACT.

FOR FURTHER INFORMATION CONTACT: For questions related to the importation and movement of plant pests and biological control agents, contact Dr. Colin D. Stewart, Assistant Director, Pests, Pathogens, and Biocontrol Permits Branch, Plant Health Programs, PPQ, APHIS, 4700 River Road, Unit 133, Riverdale, MD 20737; colin.stewart@usda.gov; (301) 851-2237. For questions related to the environmental impact statement, contact Dr. Tracy Willard, Environmental Protection Specialist/Entomologist, ERAS, PPD, APHIS, 4700 River Road, Unit 149, Riverdale, MD 20737; Tracy.A.Willard@usda.gov; (301) 851-3101.

SUPPLEMENTARY INFORMATION: On October 20, 2009, we published in the Federal Register (74 FR 53673-53674) a notice ¹ of intent to prepare a environmental impact statement (EIS) for the movement of plant pests, biological control organisms, and associated articles. That notice identified three broad alternatives to consider in the EIS and requested public comments to help delineate the scope of the issues and alternatives to be analyzed. The 30-day period for scoping of public comments was extended to November 19, 2009. We received 14 comments during the scoping period.

¹ The notices, comments, draft and final EIS, record of decision, and supporting documents for this docket can be viewed at http://www.regulations.gov/#!docketDetail;D=APHIS-2008-0076.

On January 23, 2017, the U.S. Environmental Protection Agency (EPA) published a notice of availability for the draft EIS in the Federal Register (82 FR 7822). The Animal and Plant Health Inspection Service (APHIS) made the draft EIS available and invited public comment through March 20, 2017. Our responses to the four comments received in response to the draft EIS are in an appendix to the final EIS. On June 14, 2019, the EPA published a notice of availability of the final EIS in the Federal Register (84 FR 27777). The review period for the final EIS ended on July 15, 2019.

The National Environmental Policy Act (NEPA) implementing regulations in 40 CFR 1506.10 require a minimum 30-day waiting period between the time a final EIS is published and the time an agency makes a decision on an action covered by the EIS. We did not receive any comments during the 30-day waiting period. APHIS has reviewed the final EIS and concluded that it fully analyzes the issues covered by the draft EIS and addresses the comments and suggestions submitted by commenters. This notice advises the public that the waiting period has elapsed, and APHIS has issued a record of decision (ROD) to implement the preferred alternative described in the final EIS.

The ROD has been prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 10th day of September 2019.
Kevin Shea,
Administrator, Animal and Plant Health Inspection Service.

[FR Doc. 2019-19856 Filed 9-12-19; 8:45 am]

BILLING CODE 3410-34-P